DEPARTMENT OF THE INTERIOR

Fish and Wildlife Service

[FWS-R4-R-2010-N161; 40136-1265-0000-S3]

Felsenthal/Overflow National Wildlife Refuges, Ashley, Desha, Union, and Bradley Counties, AR; Final Comprehensive Conservation Plan and Finding of No Significant Impact for Environmental Assessment

AGENCY: Fish and Wildlife Service, Interior.

ACTION: Notice of availability.

SUMMARY: We, the Fish and Wildlife Service (Service), announce the availability of our final comprehensive conservation plan (CCP) and finding of no significant impact (FONSI) for the environmental assessment for Felsenthal/Overflow National Wildlife Refuges (NWRs). In the final CCP, we describe how we will manage these refuges for the next 15 years.

ADDRESSES: You may obtain a copy of the CCP by writing to: Mr. Bernie Petersen, Project Leader, South Arkansas National Wildlife Refuge Complex, 5531 Highway 82 West, Crossett, AR 71635. The CCP may also be accessed and downloaded from the Service's Web site: http://southeast.fws.gov/planning/ under “Final Documents.”

FOR FURTHER INFORMATION CONTACT: Mr. Mike Dawson, Refuge Planner, Jackson, MS; telephone: 601/965-4903, ext. 20; fax: 601/965-4010; e-mail: mike_dawson@fws.gov.

SUPPLEMENTARY INFORMATION:

Introduction

With this notice, we finalize the CCP process for Felsenthal/Overflow NWRs. We started this process through a notice in the Federal Register on April 2, 2008 (73 FR 17992).

Felsenthal NWR was established in 1975 as mitigation for the creation of the U.S. Army Corps of Engineers' Ouachita and Black Rivers' Navigation Project and Felsenthal Lock and Dam. The refuge is located in southeast Arkansas, approximately 8 miles west of the town of Crossett. This 65,000-acre refuge is named for the small Felsenthal community located at its southwest corner, and contains an abundance of water resources dominated by the Ouachita and Saline Rivers and the Felsenthal Pool.

Overflow NWR was established in 1980 and encompasses 13,973 fee-title acres in Ashley County in southeast Arkansas, about 5 miles west of the town of Wilmot. The refuge was established to protect one of the remaining bottomland hardwood forests considered vital for maintaining mallard, wood duck, and other waterfowl populations in the Mississippi Flyway. In addition, the Oakwood Unit, an area of 2,263 acres in Desha County that was transferred from the Farm Service Agency in 1990, is administered by Overflow NWR.

We announce our decision and the availability of the final CCP and FONSI for Felsenthal/Overflow NWRs in accordance with the National Environmental Policy Act (NEPA) [40 CFR 1506.6(b)] requirements. We completed a thorough analysis of impacts on the human environment, which we included in the Draft Comprehensive Conservation Plan and Environmental Assessment (Draft CCP/EA). The CCP will guide us in managing and administering Felsenthal/Overflow NWRs for the next 15 years. Alternative B is the foundation for the CCP.

The compatibility determinations for (1) Hunting; (2) fishing; (3) wildlife observation and photography; (4) environmental education and interpretation; (5) power boating; (6) all-terrain vehicle use; (7) bee keeping; (8) berry picking; (9) camping; (10) commercial fishing; (11) dog field trials; (12) firewood cutting; (13) forest management; (14) furbearer trapping; (15) horseback riding; and (16) bicycling, boating (non-motorized), swimming, beach use, and hiking/backpacking are available in the final CCP.

Background

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Comments

We made copies of the Draft CCP/EA available for a 30-day public review period as announced in the Federal Register on June 7, 2010 (75 FR 32205). We received five comments on the Draft CCP/EA.

Selected Alternative

The Draft CCP/EA identified and evaluated three alternatives for managing the refuges. After considering the comments we received and based on the professional judgment of the planning team, we selected Alternative B for implementation. We believe this alternative is the most effective management action for meeting the vision, goals, and purposes of the refuges by optimizing habitat management and visitor services. This alternative will also allow the refuges to provide law enforcement protection that adequately meets the needs of both refuges.

This alternative will focus on augmenting wildlife and habitat management to identify, conserve, and restore populations of native fish and wildlife species, with an emphasis on migratory birds and threatened and endangered species. This will partially be accomplished by increased monitoring of waterfowl, other migratory birds, and endemic species in order to assess and adapt management strategies and actions. The restoration of the Felsenthal Pool will be a vital part of this management action and will be crucial to ensuring healthy and viable ecological communities. This restoration will require increased water management, invasive aquatic vegetation control, and reestablishment of water quality standards and possibly populations of game fish species. Nuisance wildlife populations and invasive plant species will be more aggressively managed by implementing a control plan.

Authority: This notice is published under the authority of the National Wildlife Refuge System Improvement Act of 1997, Public Law 105-57.

Dated: September 3, 2010.
Mark J. Musaus,
Acting Regional Director.

Editorial Note: This document was received in the Office of the Federal Register Tuesday, January 25, 2011.

[FR Doc. 2011-1868 Filed 1-27-11; 8:45 am]

BILLING CODE 4310-55-P